ENVIRONMENTAL PROTECTION AGENCY

[OPP-100158; FRL-6597-2]

GRAM, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to GRAM, Inc. in accordance with 40 CFR 2.307(h)(3) and 2.308(i)(2). GRAM, Inc. has been awarded multiple contracts to perform work for the Office of Water (OW). Access to this information will enable GRAM, Inc. to fulfill the obligations of the contracts.

DATES: GRAM, Inc. will be given access to this information on or before July 26, 2000.

FOR FURTHER INFORMATION CONTACT: By mail: Erik R. Johnson, FIFRA Security Officer, Information Resources and Services Division (7502C), Office of Pesticide Programs, Environmental Protection Agency, 1200 Pennsylvania Ave., NW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

II. Contractor Requirements

Under contract number 68-C9-9232, work assignment B-17, the contractor will perform the following: Provide technical and regulatory support services to the Health and Ecological Criteria Division (HECD) in the Office of Water's Office of Science and Technology (OST) during the development of human health criteria, health advisories, maximum contaminate level goals, and pollutant limits, and to conduct laboratory and/or field studies and/or derive from the published literature detailed and comprehensive data bases for microbiological pollutants encountered in drinking water, ambient water, wastewater/sewage sludge, sediment/dredge spoils, fish, wildlife and sewage sludge for the EPA.

These contracts involve no subcontractors.

OPP has determined that the contracts described in this document involve work that is being conducted in connection with FIFRA, in that pesticide chemicals will be the subject of certain evaluations to be made under the contracts. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contracts with GRAM, Inc., prohibits use of the information for any purpose not specified in these contracts; prohibits disclosure of the information to a third party without prior written approval from the Agency; and requires that each official and employee of the contractor sign an agreement to protect the information from unauthorized release and to handle it in accordance with the FIFRA Information Security Manual. In addition, GRAM, Inc., is required to submit for EPA approval a security plan under which any CBI will be secured and protected against unauthorized release or compromise. No information will be provided to GRAM, Inc., until the requirements in this document have been fully satisfied. Records of information provided to GRAM, Inc., will be maintained by EPA Project Officers for these contracts. All information supplied to GRAM, Inc., by EPA for use in connection with these contracts will be returned to EPA when, Inc., has completed its work.

List of Subjects

Environmental protection, Business and industry, Government contracts, Government property, Security measures.

Dated: July 6, 2000.
Richard D. Schmitt,
Acting Director, Information Resources and Services Division, Office of Pesticide Programs.

[FR Doc. 00-18153 Filed 7-18-00; 8:45 am]

BILLING CODE 6560-50-F